DEPARTMENT OF COMMERCE

National Oceanic and Atmospheric Administration

Public Meeting of the Science Advisory Board

AGENCY: Office of Oceanic and Atmospheric Research (OAR), National Oceanic and Atmospheric Administration (NOAA), Department of Commerce (DOC).

ACTION: Notice of public meeting.

SUMMARY: This notice sets forth the schedule and proposed agenda for the meeting of the Science Advisory Board (SAB). The members will discuss issues outlined in the section on Matters to be Considered.

DATES: The meeting is scheduled for Tuesday, August 30, 2022, 9:30 a.m.-5:00 p.m. Eastern Daylight Time (EDT) and Wednesday, August 31, 2022, 9:00 a.m.-12:30 p.m. Eastern Daylight Time (EDT). The time and the agenda topics described below are subject to change. For the latest agenda, please refer to the SAB website: https://sab.noaa.gov/index.php/current-meetings/.

ADDRESSES: The August 30-31, 2022 meeting will be held at the Double Tree by Hilton Silver Spring Washington, DC North located at 8777 Georgia Ave., Silver Spring, MD 20910. The link for the webinar registration for the August 30-31, 2022 meeting may be found here: https://sab.noaa.gov/index.php/current-meetings/.

FOR FURTHER INFORMATION CONTACT: Dr. Cynthia Decker, Executive Director, SSMC3, Room 11230, 1315 East-West Hwy., Silver Spring, MD 20910; Phone Number: 202-936-5847; Email: Cynthia.Decker@noaa.gov; or visit the SAB website at https://sab.noaa.gov/index.php/current-meetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The August 30-31, 2022 meeting will be open to public participation with a 15-minute public comment period at 4:45 p.m. Eastern Daylight Time (EDT) on Tuesday, August 30, 2022. The SAB expects that public statements presented at its meetings will not be repetitive of previously submitted verbal or written statements. In general, each individual or group making a verbal presentation will be limited to a total time of three minutes. Written comments for the August 30-31, 2022 meeting should be received in the SAB Executive Director's Office by August 18, 2022 to provide sufficient time for SAB review. Written comments received by the SAB Executive Director after this date will be distributed to the SAB, but may not be reviewed prior to the meeting date.

Special Accommodations: This meeting is physically accessible to people with disabilities. Requests for special accommodations may be directed to the Executive Director no later than 12 p.m. on August 18, 2022.

Matters to be Considered: The meeting on August 30-31, 2022 will include the (1) NOAA Update; (2) NOAA Science Update; (3) Review of the Cooperative Institute for Modelling the Earth System (CIMES); (4) NOAA Response to SAB Climate Working Group Report: Advancing Earth System Prediction; (5) Tsunami Science & Technology Advisory Panel Strategic Plan; (6) NOAA Response to SAB Climate Working Group Review of the Climate and Fisheries Initiative Implementation Approach; (7) Updates from SAB 2022 Work Plan Topics; (8) Environmental Information Services Working Group Report Review of the NOAA Subseasonal to Seasonal (S2S) Report to Congress; (9) NOAA Response to SAB Climate Working Group Review of the Coastal Inundation at Climate Timescales White Paper. Meeting materials, including work products, will be made available on the SAB website: https://sab.noaa.gov/index.php/current-meetings/.

Dave Holst,
Chief Financial Officer/Administrative Officer, Office of Oceanic and Atmospheric Research, National Oceanic and Atmospheric Administration.

[FR Doc. 2022-16269 Filed 7-28-22; 8:45 am]

BILLING CODE 3510-KD-P